DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance (TAA) from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[05/30/2012 through 06/20/2012]
Firm name | Firm address | Date accepted for investigation | Product(s)
Rainbow Leather, Inc | 1415 112th Street, College Point NY 11356 | 06/07/12 | The firm manufactures printed leather for shoe and boot wholesalers.
Award Flooring, LLP | 401 North 72nd Avenue, Wausau WI 54401 | 06/07/12 | The firm manufactures engineered hardwood flooring.
Bruin Manufacturing, Co. | 607 North 4th Avenue, Marshaltown IA 50158 | 06/08/12 | The firm manufactures injection molded plastic clips, drawer slides, caps, connectors, and rings.
Homeart Designs, LLC. | 6419 McPherson Road, Laredo TX 78041 | 06/14/12 | The firm manufactures custom cabinets.
ABCO Tool & Die, Inc | 11 Thornton Drive, Hyannis MA 2601 | 06/14/12 | The firm manufactures steel injection molds.
Performance Design, LLC. dba Rhin-O-Tuff | 2350 East Braniff, Boise ID 83716 | 06/14/12 | The firm manufactures finishing equipment for the print industry including paper punches, coil inserters, wire closers, comb openers.
Jacobson Hat Company, Inc | 1301 Ridge Row, Scranton PA 18510 | 06/15/12 | The firm creates personalized hats, headgear, and novelty hats made of felt and other materials.
Wing's Sportswear, Inc. and Alamo Tees & Advertising | 12814 Cogburn Avenue, San Antonio TX 78249 | 06/19/12 | The firm manufactures embroidered fashion apparel and accessories.
Ineeka, Inc | 2023 W. Carroll Street, Suite 263, Chicago IL 60612 | 06/19/12 | The firm manufactures organic tea and herb beverage products.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: June 21, 2012.
Miriam Kearse,
Eligibility Certifier, TAA for Firms.

[FR Doc. 2012-15663 Filed 6-26-12; 8:45 am]

BILLING CODE 3510-WH-P